DEPARTMENT OF ENERGY

Federal Energy Regulatory Commission

Combined Notice of Filings #1

July 27, 2010.

Take notice that the Commission received the following electric rate filings:

Docket Numbers: ER00-2469-006.

Applicants: Williams Flexible Generation, LLC.

Description: Williams Flexible Generation, LLC submits an Amended Application for Finding as a Category 1 Seller.

Filed Date: 07/23/2010.

Accession Number: 20100726-0018.

Comment Date: 5 p.m. Eastern Time on Friday, August 13, 2010.

Docket Numbers: ER08-1226-007; ER08-1225-010; ER08-1111-008.

Applicants: Cloud County Wind Farm, LLC, Pioneer Prairie Wind Farm I, LLC, Arlington Wind Power Project LLC.

Description: Arlington Wind Power Project LLC, et al. Notice of Non-Material Change in Status in Compliance with Requirements set forth in Section 35.42.

Filed Date: 07/23/2010.

Accession Number: 20100723-5198.

Comment Date: 5 p.m. Eastern Time on Friday, August 13, 2010.

Docket Numbers: ER10-1850-000.

Applicants: Velocity Futures, L.P.

Description: Velocity Futures, LLC submits Notice of Cancellation of Market-based Rate Authority.

Filed Date: 07/21/2010.

Accession Number: 20100721-0211.

Comment Date: 5 p.m. Eastern Time on Wednesday, August 11, 2010.

Docket Numbers: ER10-1957-000.

Applicants: Northern Maine Independent System Administrator, Inc.

Description: Northern Maine Independent System Administrator, Inc. submits revisions to their FERC Electric Tariff Original Volume 1, effective September 24, 2010.

Filed Date: 07/26/2010.

Accession Number: 20100726-0207.

Comment Date: 5 p.m. Eastern Time on Monday, August 16, 2010.

Docket Numbers: ER10-1960-000.

Applicants: Southwest Power Pool, Inc.

Description: Southwest Power Pool, Inc. submits tariff filing per 35.12: Baseline Electronic Tariff Filing to be effective 7/26/2010.

Filed Date: 07/26/2010.

Accession Number: 20100726-5191.

Comment Date: 5 p.m. Eastern Time on Monday, August 16, 2010.

Docket Numbers: ER10-1961-000.

Applicants: High Majestic Wind Energy Center, LLC.

Description: High Majestic Wind Energy Center, LLC submits tariff filing per 35.12: High Majestic Baseline Filing to be effective 7/26/2010.

Filed Date: 07/26/2010.

Accession Number: 20100726-5198.

Comment Date: 5 p.m. Eastern Time on Monday, August 16, 2010.

Docket Numbers: ER10-1962-000.

Applicants: High Winds, LLC.

Description: High Winds, LLC submits tariff filing per 35.12: High Winds Baseline filing to be effective 7/26/2010.

Filed Date: 07/26/2010.

Accession Number: 20100726-5199.

Comment Date: 5 p.m. Eastern Time on Monday, August 16, 2010.

Docket Numbers: ER10-1963-000.

Applicants: Jamaica Bay Peaking Facility, LLC.

Description: Jamaica Bay Peaking Facility, LLC submits tariff filing per 35.12: Jamaica Bay Baseline Filing to be effective 7/26/2010.

Filed Date: 07/26/2010.

Accession Number: 20100726-5200.

Comment Date: 5 p.m. Eastern Time on Monday, August 16, 2010.

Docket Numbers: ER10-1964-000.

Applicants: Lake Benton Power Partners II, LLC.

Description: Lake Benton Power Partners II, LLC submits tariff filing per 35.12: Lake Benton II Baseline Filing to be effective 7/26/2010.

Filed Date: 07/26/2010.

Accession Number: 20100726-5202.

Comment Date: 5 p.m. Eastern Time on Monday, August 16, 2010.

Docket Numbers: ER10-1965-000.

Applicants: Langdon Wind, LLC.

Description: Langdon Wind, LLC submits tariff filing per 35.12: Langdon Baseline Filing to be effective 7/26/2010.

Filed Date: 07/26/2010.

Accession Number: 20100726-5206.

Comment Date: 5 p.m. Eastern Time on Monday, August 16, 2010.

Docket Numbers: ER10-1966-000.

Applicants: Logan Wind Energy LLC.

Description: Logan Wind Energy LLC submits tariff filing per 35.12: Logan Baseline Filing to be effective 7/26/2010.

Filed Date: 07/26/2010.

Accession Number: 20100726-5212.

Comment Date: 5 p.m. Eastern Time on Monday, August 16, 2010.

Docket Numbers: ER10-1967-000.

Applicants: Meyersdale Windpower LLC.

Description: Meyersdale Windpower LLC submits tariff filing per 35.12: Meyersdale Baseline Filing to be effective 7/26/2010.

Filed Date: 07/26/2010.

Accession Number: 20100726-5219.

Comment Date: 5 p.m. Eastern Time on Monday, August 16, 2010.

Docket Numbers: ER10-1968-000.

Applicants: Mill Run Windpower, LLC.

Description: Mill Run Windpower, LLC submits tariff filing per 35.12: Mill Run Baseline Filing to be effective 7/26/2010.

Filed Date: 07/26/2010.

Accession Number: 20100726-5225.

Comment Date: 5 p.m. Eastern Time on Monday, August 16, 2010.

Docket Numbers: ER10-1969-000.

Applicants: PJM Interconnection, LLC.

Description: PJM Interconnection, LLC submits two executed interconnection service agreements under ER10-1969.

Filed Date: 07/26/2010.

Accession Number: 20100726-0208.

Comment Date: 5 p.m. Eastern Time on Monday, August 16, 2010.

Docket Numbers: ER10-1970-000.

Applicants: NextEra Energy Duane Arnold, LLC.

Description: NextEra Energy Duane Arnold, LLC submits tariff filing per 35.12: Duane Arnold Baseline Filing to be effective 7/26/2010.

Filed Date: 07/26/2010.

Accession Number: 20100726-5232.

Comment Date: 5 p.m. Eastern Time on Monday, August 16, 2010.

Docket Numbers: ER10-1971-000.

Applicants: NextEra Energy Power Marketing, LLC.

Description: NextEra Energy Power Marketing, LLC submits tariff filing per 35.12: Power Marketing Baseline Filing to be effective 7/26/2010.

Filed Date: 07/26/2010.

Accession Number: 20100726-5234.

Comment Date: 5 p.m. Eastern Time on Monday, August 16, 2010.

Docket Numbers: ER10-1972-000.

Applicants: NextEra Energy Point Beach, LLC.

Description: NextEra Energy Point Beach, LLC submits tariff filing per 35.12: Point Beach Baseline Filing to be effective 7/26/2010.

Filed Date: 07/26/2010.

Accession Number: 20100726-5239.

Comment Date: 5 p.m. Eastern Time on Monday, August 16, 2010.

Docket Numbers: ER10-1973-000.

Applicants: NextEra Energy Seabrook, LLC.

Description: NextEra Energy Seabrook, LLC submits tariff filing per 35.12: Seabrook MBR Baseline Filing to be effective 7/26/2010.

Filed Date: 07/26/2010.

Accession Number: 20100726-5241.

Comment Date: 5 p.m. Eastern Time on Monday, August 16, 2010.

Docket Numbers: ER10-1974-000.

Applicants: Northeast Energy Associates, L.P.

Description: Northeast Energy Associates, L.P. submits tariff filing per 35.12: NEA Baseline Filing to be effective 7/26/2010.

Filed Date: 07/26/2010.

Accession Number: 20100726-5242.

Comment Date: 5 p.m. Eastern Time on Monday, August 16, 2010.

Docket Numbers: ER10-1975-000.

Applicants: North Jersey Energy Associates, L.P.

Description: North Jersey Energy Associates, L.P. submits tariff filing per 35.12: NJEA Baseline Filing to be effective 7/26/2010.

Filed Date: 07/26/2010.

Accession Number: 20100726-5243.

Comment Date: 5 p.m. Eastern Time on Monday, August 16, 2010.

Docket Numbers: ER10-1976-000.

Applicants: Northern Colorado Wind Energy, LLC.

Description: Northern Colorado Wind Energy, LLC submits tariff filing per 35.12: Northern Colorado Baseline Filing to be effective 7/26/2010.

Filed Date: 07/26/2010.

Accession Number: 20100726-5244.

Comment Date: 5 p.m. Eastern Time on Monday, August 16, 2010.

Docket Numbers: ER10-1977-000.

Applicants: New York Independent System Operator Inc.

Description: New York Independent System Operator submits tariff filing per 35.13(a)(2)(iii: Section 205 filing—IBRT—Lampi to be effective 9/30/2010.

Filed Date: 07/26/2010.

Accession Number: 20100726-5259.

Comment Date: 5 p.m. Eastern Time on Monday, August 16, 2010.

Docket Numbers: ER10-1978-000.

Applicants: Cleco Power LLC.

Description: Cleco Power LLC submits their baseline Open Access Transmission Tariff pursuant to Order No 714, to be effective 7/27/2010.

Filed: 07/27/2010.

Accession Number: 20100727-5003.

Comment Date: 5 p.m. Eastern Time on Tuesday, August 17, 2010.

Docket Numbers: ER10-1979-000.

Applicants: Southern California Edison Company.

Description: Southern California Edison Company submits a Small Generator Interconnection Agreement and a Service Agreement for Wholesale Distribution Service under FERC Electric Tariff, 2nd Revised Volume 5, effective 7/28/2010.

Filed Date: 07/27/2010.

Accession Number: 20100727-5005.

Comment Date: 5 p.m. Eastern Time on Tuesday, August 17, 2010.

Docket Numbers: ER10-1980-000.

Applicants: Consolidated Edison Company of New York.

Description: Consolidated Edison Company of New York, Inc. submits tariff filing per 35.12: Baseline Filing of Con Edison EDDS Rate Schedule No. 92 to be effective 7/27/2010.

Filed Date: 07/27/2010.

Accession Number: 20100727-5058.

Comment Date: 5 p.m. Eastern Time on Tuesday, August 17, 2010.

Docket Numbers: ER10-1981-000.

Applicants: Southern California Edison Company.

Description: Southern California Edison Company submits tariff filing per 35.13(a)(2)(iii): SGIA-DSA SA255&256 GBU N 072710 to be effective 7/28/2010.

Filed Date: 07/27/2010.

Accession Number: 20100727-5060.

Comment Date: 5 p.m. Eastern Time on Tuesday, August 17, 2010.

Docket Numbers: ER10-1982-000.

Applicants: Consolidated Edison Company of New York, Inc.

Description: Consolidated Edison Company of New York, Inc. submits tariff filing per 35.12: Baseline Filing of Con Edison MBR Tariff to be effective 7/27/2010.

Filed Date: 07/27/2010.

Accession Number: 20100727-5075.

Comment Date: 5 p.m. Eastern Time on Tuesday, August 17, 2010.

Docket Numbers: ER10-1983-000.

Applicants: Osceola Windpower, LLC.

Description: Osceola Windpower, LLC submits tariff filing per 35.12: Osceola Baseline Filing to be effective 7/27/2010.

Filed Date: 07/27/2010.

Accession Number: 20100727-5084.

Comment Date: 5 p.m. Eastern Time on Tuesday, August 17, 2010.

Docket Numbers: ER10-1984-000.

Applicants: Osceola Windpower II, LLC.

Description: Osceola Windpower II, LLC submits tariff filing per 35.12: Osceola II Baseline Filing to be effective 7/27/2010.

Filed Date: 07/27/2010.

Accession Number: 20100727-5085.

Comment Date: 5 p.m. Eastern Time on Tuesday, August 17, 2010.

Docket Numbers: ER10-1985-000.

Applicants: Peetz Table Wind Energy, LLC.

Description: Peetz Table Wind Energy, LLC submits tariff filing per 35.12: Peetz Table Baseline Filing to be effective 7/27/2010.

Filed Date: 07/27/2010.

Accession Number: 20100727-5088.

Comment Date: 5 p.m. Eastern Time on Tuesday, August 17, 2010.

Docket Numbers: ER10-1986-000.

Applicants: Pennsylvania Windfarms, Inc.

Description: Pennsylvania Windfarms, Inc. submits tariff filing per 35.12: Pennsylvania Baseline Filing to be effective 7/27/2010.

Filed Date: 07/27/2010.

Accession Number: 20100727-5089.

Comment Date: 5 p.m. Eastern Time on Tuesday, August 17, 2010.

Docket Numbers: ER10-1987-000.

Applicants: Ontario Power Generation Energy Trading, Inc.

Description: Ontario Power Generation Energy Trading, Inc. submits tariff filing per 35.12: Baseline for Ontario Power Generation Energy Trading, Inc. (Market-Based Rates) to be effective 7/27/2010.

Filed Date: 07/27/2010.

Accession Number: 20100727-5090.

Comment Date: 5 p.m. Eastern Time on Tuesday, August 17, 2010.

Docket Numbers: ER10-1988-000.

Applicants: Sagebrush, a California partnership.

Description: Sagebrush, a California partnership submits tariff filing per 35.12: Sagebrush Baseline Filing Final to be effective 7/27/2010.

Filed Date: 07/27/2010.

Accession Number: 20100727-5091.

Comment Date: 5 p.m. Eastern Time on Tuesday, August 17, 2010.

Docket Numbers: ER10-1989-000.

Applicants: Sky River LLC.

Description: Sky River LLC submits tariff filing per 35.12: Sky River Baseline Filing to be effective 7/27/2010.

Filed Date: 07/27/2010.

Accession Number: 20100727-5092.

Comment Date: 5 p.m. Eastern Time on Tuesday, August 17, 2010.

Docket Numbers: ER10-1990-000.

Applicants: Somerset Windpower, LLC.

Description: Somerset Windpower, LLC submits tariff filing per 35.12: Somerset Baseline Filing to be effective 7/27/2010.

Filed Date: 07/27/2010.

Accession Number: 20100727-5093.

Comment Date: 5 p.m. Eastern Time on Tuesday, August 17, 2010.

Docket Numbers: ER10-1991-000.

Applicants: Story Wind, LLC.

Description: Story Wind, LLC submits tariff filing per 35.12: Story Baseline Filing to be effective 7/27/2010.

Filed Date: 07/27/2010.

Accession Number: 20100727-5094.

Comment Date: 5 p.m. Eastern Time on Tuesday, August 17, 2010.

Docket Numbers: ER10-1992-000.

Applicants: Victory Garden Phase IV, LLC.

Description: Victory Garden Phase IV, LLC submits tariff filing per 35.12: VGIV Baseline Filing to be effective 7/27/2010.

Filed Date: 07/27/2010.

Accession Number: 20100727-5095.

Comment Date: 5 p.m. Eastern Time on Tuesday, August 17, 2010.

Docket Numbers: ER10-1993-000.

Applicants: Waymart Wind Farm, L.P.

Description: Waymart Wind Farm, L.P. submits tariff filing per 35.12: Waymart Baseline Filing to be effective 7/27/2010.

Filed Date: 07/27/2010.

Accession Number: 20100727-5097.

Comment Date: 5 p.m. Eastern Time on Tuesday, August 17, 2010.

Docket Numbers: ER10-1994-000.

Applicants: Wessington Wind Energy Center, LLC.

Description: Wessington Wind Energy Center, LLC submits tariff filing per 35.12: Wessington Baseline Filing to be effective 7/27/2010.

Filed Date: 07/27/2010.

Accession Number: 20100727-5098.

Comment Date: 5 p.m. Eastern Time on Tuesday, August 17, 2010.

Docket Numbers: ER10-1995-000.

Applicants: Wilton Wind II, LLC.

Description: Wilton Wind II, LLC submits tariff filing per 35.12: Wilton II Baseline Filing to be effective 7/27/2010.

Filed Date: 07/27/2010.

Accession Number: 20100727-5099.

Comment Date: 5 p.m. Eastern Time on Tuesday, August 17, 2010.

Docket Numbers: ER10-1996-000.

Applicants: Dominion Retail, Inc.

Description: Dominion Retail, Inc. submits tariff filing per 35.12: Baseline to be effective 7/27/2010.

Filed Date: 07/27/2010.

Accession Number: 20100727-5102.

Comment Date: 5 p.m. Eastern Time on Tuesday, August 17, 2010.

Docket Numbers: ER10-1997-000.

Applicants: Midwest Independent Transmission System Operator, Inc.

Description: Midwest Independent Transmission System Operator, Inc. submits tariff filing per 35.12: MISOBASELINE5 to be effective 7/28/2010.

Filed Date: 07/27/2010.

Accession Number: 20100727-5113.

Comment Date: 5 p.m. Eastern Time on Tuesday, August 17, 2010.

Docket Numbers: ER10-1998-000.

Applicants: California Independent System Operator Corporation.

Description: California Independent System Operator Corporation submits tariff filing per 35.13(a)(2)(iii): 2010-07-27 CAISO Price Correction Timing Amendment to be effective 9/30/2010.

Filed Date: 07/27/2010.

Accession Number: 20100727-5138.

Comment Date: 5 p.m. Eastern Time on Tuesday, August 17, 2010.

Take notice that the Commission received the following land acquisition reports:

Docket Numbers: LA10-2-000.

Applicants: Order 697-C 2010 1st Qtr Site Acquisition.

Description: Notice of change in status and Q2 2010 land acquisition report of Baltimore Gas and Electric Company, et al.

Filed Date: 07/27/2010.

Accession Number: 20100727-5077.

Comment Date: 5 p.m. Eastern Time on Tuesday, August 17, 2010.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-18980 Filed 8-2-10; 8:45 am]

BILLING CODE 6717-01-P